DEPARTMENT OF ENERGY

Federal Energy Regulatory Commission

[Docket No. EG04-5-000, et al.]

Springerville Unit 3 Holding LLC, et al.; Electric Rate and Corporate Filings

October 24, 2003.

The following filings have been made with the Commission. The filings are listed in ascending order within each docket classification.

1. Springerville Unit 3 Holding LLC

[Docket No. EG04-5-000]

Take notice that on October 20, 2003, Springerville Unit 3 Holding LLC (Springerville) filed with the Federal Energy Regulatory Commission an Application for Determination of Exempt Wholesale Generator Status pursuant to Part 365 of the Commission's regulations.

Springerville states that it is a Delaware limited liability company, which has been formed to own Springerville Unit 3, a single unit, coal-fired, 400 MW (net) generating station near Springerville, Apache County, Arizona.

Comment Date: November 10, 2003.

2. Springerville Unit 3 OP LLC

[Docket No. EG04-6-000]

Take notice that on October 20, 2003, Springerville Unit 3 OP LLC (Springerville) filed with the Federal Energy Regulatory Commission an Application for Determination of Exempt Wholesale Generator Status pursuant to part 365 of the Commission's regulations.

Springerville states it is a Delaware limited liability company which has been formed to own the membership interests in Springerville Unit 3 Holding, LLC, which in turn will own Springerville Unit 3, a single unit, coal-fired, 400 MW (net) generating station near Springerville, Apache County, Arizona.

Comment Date: November 10, 2003.

3. Florida Power Corporation

[Docket Nos. ER97-2846-003]

Take notice that, on October 21, 2003, Progress Energy, Inc., on behalf of Florida Power Corporation, also known as Progress Energy Florida, Inc. (FPC), submitted a three-year market analysis update for FPC's market-based rate authority.

FPC states that copies of the filing were served on the official service lists in the above-captioned proceedings.

Comment Date: November 12, 2003.

4. American Transmission Company LLC

[Docket No. ER03-1211-001]

Take notice that on October 21, 2003, American Transmission Company LLC (ATCLLC) tendered for filing a revised Generation-Transmission Interconnection Agreement between ATCLLC and Fox Energy Company LLC (Second Revised Service Agreement No. 233) in compliance with the Commission's Letter Order dated Spetember 23, 2003 in Docket No. ER03-1211-000. ATCLLC requests retention of the original effective date of January 15, 2002.

Comment Date: November 12, 2003.

5. Bethlehem Steel Corporation

[Docket No. ER03-1322-001]

Take notice that on October 22, 2003, Bethlehem Steel Corporation (Bethlehem) submitted additional materials to supplement the Notice of Cancellation of Bethlehem's FERC Electric Tariff No. 1 and Rate Schedule FERC No. 2 filed on September 8, 2003 in Docket No. ER03-1322-000.

Comment Date: November 12, 2003.

6. New York Independent System Operator, Inc.

[Docket No. ER04-54-000]

Take notice that on October 16, 2003, the New York Independent System Operator, Inc. (NYISO), filed proposed revisions to the NYISO's Open Access Transmission Tariff (OATT) and Market Administration and Control Area Services Tariff (Services Tariff). The proposed filing would: (1) Establish congestion shortfall charges and congestion surplus payments; (2) change the manner in which congestion rent shortfalls and excess congestion rents are allocated to Transmission Owners; (3) establish auction shortfall charges and auction surplus payments; and (4) change the manner in which net Transmission Congestion Contract (TCC) revenues are allocated among Transmission Owners. The NYISO has requested that the Commission make a portion of the filing effective on December 15, 2003, and another portion of the filing effective on January 1, 2004.

NYISO states that a copy of this filing was served upon all parties that have executed Service Agreements under the NYISO's OATT or Services Tariff, the New York State Public Service Commission, and to the electric utility regulatory agencies in New Jersey and Pennsylvania.

Comment Date: November 6, 2003.

7. Maine Yankee Atomic Power Company

[Docket No. ER04-55-000]

Take notice that on October 20, 2003, Maine Yankee Atomic Power Company (Maine Yankee) tendered for filing, pursuant to Section 205 of the Federal Power Act and Section 35.13 of the Commission's regulations, proposed revisions to its FERC Rate Schedule No. 1. Maine Yankee states that the proposed changes would increase rates to recover decommissioning costs $3.77 million per year, to approximately $29.3 million, and would increase annual collections for post retirement benefits other than pensions (PBOPs) by $1.45 million per year.

Maine Yankee states that a principal purpose of its filing is to submit a revised decommissioning cost estimate and collection schedule to assure that adequate funds are available to safely and promptly decommission the plant and operate and manage the long-term storage of spent fuel and high level waste on site, and a revised actuarial analysis and collection schedule to assure that adequate funds are available to meet Maine Yankee's PBOP obligations. Maine Yankee's filing also requests approval of a change in its billing formula and deferral of recovery of amounts sufficient to replenish its Spent Fuel Trust fund until November 2008.

Maine Yankee states that copies of its filing were served upon its jurisdictional customers and to state regulatory commissions in Connecticut, New Hampshire, Massachusetts, Maine and Rhode Island and the Office of the Public Advocate, State of Maine.

Comment Date: November 10, 2003.

8. Consumers Energy Company

[Docket No. ER04-56-000]

Take notice that on October 20, 2003, Consumers Energy Company (Consumers) tendered for filing a Notice of Cancellation of its First Revised Electric Tariff No. 6.

Consumers requests that the cancellation become effective as of October 7, 2003. Consumers states that a copy of this filing was served upon the Michigan Public Service Commission.

Comment Date: November 10, 2003.

9. Ameren Energy Marketing Company

[Docket No. ER04-57-000]

Take notice that on October 20, 2003, Ameren Energy Marketing Company (AEM) petitioned the Commission to amend the Western Systems Power Pool (WSPP) Agreement to include AEM as a participant. AEM respectfully requests that the Commission allow the amendment to the WSPP Agreement to become effective on October 21, 2003.

AEM states that this filing has been served upon the WSPP Executive Committee Chair, WSPP Operating Committee Chair, WSPP General Counsel, and WSPP Secretary/Treasurer.

Comment Date: November 10, 2003.

10. Commonwealth Edison Company

[Docket No. ER04-58-000]

Take notice that on October 21, 2003 Commonwealth Edison Company (ComEd) submitted for filing an Interconnection Agreement by and between ComEd and FPL Energy Illinois Wind, LLC (FPL Energy) designated as Service Agreement No. 729 under ComEd's open access transmission service tariff, ComEd FERC Electric Tariff, Second Revised Volume No. 5, to be effective on December 20, 2003.

Comment Date: November 12, 2003.

11. Xcel Energy Services Inc. Public Service Company of Colorado

[Docket No. ER04-59-000]

Take notice that on October 21, 2003, Xcel Energy Services Inc. (XES), on behalf of Public Service Company of Colorado (PSCo) submitted for filing with the Federal Energy Regulatory Commission (Commission) a Generation Interconnection Agreement (Agreement) between PSCo and Colorado Green Holdings, LLC. PSCO requests an effective date of April 1, 2003.

Comment Date: November 12, 2003.

12. California Independent System Operator Corporation

[Docket No. ER04-61-000]

Take notice that on October 21, 2003, the California Independent System Operator Corporation (ISO), tendered for filing revisions to the Transmission Control Agreement (TCA) for acceptance by the Commission. The ISO states that the purpose of the revisions is to revise Exhibit B-1 to Pacific Gas and Electric Company's TCA Appendix B to substitute a new set of Path 15 Operating Instructions provided by Pacific Gas and Electric Company in place of the existing set of Path 15 Operating Instructions.

The ISO states that this filing has been served upon the Public Utilities Commission of the State of California, the California Energy Commission, the California Electricity Oversight Board, the Participating Transmission Owners, Trans-Elect, and all parties with effective Scheduling Coordinator Agreements under the ISO Tariff. The ISO is requesting an effective date of December 20, 2003, 60 days from the date of this filing.

Comment Date: November 12, 2003.

13. Arizona Public Service Company

[Docket No. ER04-62-000]

Take notice that on October 21, 2003, Arizona Public Service Company (APS) tendered for filing a Notice of Cancellation of the Interruptible Transmission Service Agreement between APS and El Paso Electric Company, Rate Schedule FERC No. 203, to be effective December 31, 2003.

APS states that copies of the filing have been served on Arizona Corporation Commission, Public Utility Commission of Texas and El Paso Electric Company.

Comment Date: November 12, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see18 CFR 385.2001(a)(1)(iii) and the instructions on the Commission's web site under the “e-Filing” link. The Commission strongly encourages electronic filings.

Magalie R. Salas,
Secretary.

[FR Doc. E3-00143 Filed 10-30-03; 8:45 am]

BILLING CODE 6717-01-P